COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products and services to the Procurement List that will be furnished by nonprofit agencies employing persons who are blind or have other severe disabilities.

DATES: Effective Date: March 3, 2014.

ADDRESSES: Committee for Purchase From People Who Are Blind or Severely Disabled, 1401 S. Clark Street, Suite 10800, Arlington, Virginia, 22202-4149.

FOR FURTHER INFORMATION CONTACT: Patricia Briscoe, Telephone: (703) 603-7740, Fax: (703) 603-0655, or email CMTEFedReg@AbilityOne.gov.

SUPPLEMENTARY INFORMATION:

Additions

On 11/29/2013 (78 FR 71582-71583) and 12/6/2013 (78 FR 73504), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products:

NSN: 8950-01-E62-3516—Allspice, Ground, 6/16 oz. Bottles

NSN: 8950-01-E62-3528—Cloves, Ground, 6/16 oz. Bottles

NSN: 8950-01-E62-3532—Poppy Seed, Whole, 6/20 oz. Bottles

NSN: 8950-01-E62-3508—Rosemary Leaves, Ground, 6/11 oz. Bottles

NSN: 8950-01-E62-3524—Caribbean Jerk Seasoning Blend, 6/18 oz. Bottles

NSN: 8950-01-E62-3520—Chives, Dehydrated, Chopped, 6/1.35 oz. Bottles

NSN: 8950-01-E62-3526—Chinese 5 Spice, 6/16 oz. Bottles

NSN: 8950-01-E62-3510—Cilantro, Freeze Dried, 6/3.75 oz. Bottles

NSN: 8950-01-E62-3530—Tarragon, Whole, 6/3.5 oz. Bottles

NSN: 8950-01-E62-3512—Sage, Rubbed, 6/6 oz. Bottles

NSN: 8950-01-E62-3514—Rosemary Leaves, Whole, 6/6 oz. Bottles

NSN: 8950-01-E62-3518—Marjoram, Ground, 6/11 oz. Bottles

NSN: 8950-01-E62-3522—Garlic and Herb Seasoning, 6/18 oz. Bottles

NSN: 8950-01-E62-3506—Fennel Seed, Whole, 6/14 oz. Bottles

NPA: CDS Monarch, Webster, NY.

Contracting Activity: Defense Logistics Agency Troop Support, Philadelphia, PA.

COVERAGE: C-List for 100% of the requirement of the Department of Defense, as aggregated by the Defense Logistics Agency Troop Support, Philadelphia, PA.

NSN: 7045-00-NIB-0386—Blank media discs, CD-R, White, Thermal Printable, 52x Speed, 80Min/700MB, 50 pack spindle

NPA: North Central Sight Services, Inc., Williamsport, PA.

Contracting Activity: Defense Logistics Agency Troop Support, Philadelphia, PA.

COVERAGE: A-List for the Total Government Requirement as aggregated by the Defense Logistics Agency, Philadelphia, PA.

Services:

Service Type/Location: Custodial Service, U.S. Geological Survey, Patuxent Wildlife Research Center, 12100 Beech Forest Rd., Laurel, MD.

NPA: MVLE, Inc., Springfield, VA.

Contracting Activity: DEPT OF THE INTERIOR, GEOLOGICAL SURVEY, OFFICE OF PROCUREMENT AND CONTRACTS, RESTON, VA.

Service Type/Location: Custodial Service, Directorate of Contracting Procurement Logistics Support Detachment, Undisclosed Location, Ft. Belvoir, VA

NPA: MVLE, Inc., Springfield, VA.

Contracting Activity: Directorate of Contracting Procurement Logistics Support Detachment, Fort Belvoir, VA.

Patricia Briscoe,
Deputy Director, Business Operations, (Pricing and Information Management).

[FR Doc. 2014-02013 Filed 1-30-14; 8:45 am]

BILLING CODE 6353-01-P